DEPARTMENT OF THE INTERIOR

Fish and Wildlife Service

[FWS-R2-ES-2017-N004; FXES11130200000C2-112-FF02ENEH00]

Endangered and Threatened Wildlife and Plants; Draft Texas Coastal Bend Shortgrass Prairie Multi-Species Recovery Plan: Including Slender Rush-Pea (Hoffmannseggia tenella) and South Texas Ambrosia (Ambrosia cheiranthifolia)

AGENCY: Fish and Wildlife Service, Interior.

ACTION: Notice of availability; request for comment.

SUMMARY: We, the U.S. Fish and Wildlife Service (Service), announce the availability of our draft Texas Coastal Bend Shortgrass Prairie Multi-Species Recovery Plan that includes the slender rush-pea (Hoffmannseggia tenella) and South Texas ambrosia (Ambrosia cheiranthifolia). Both species are listed as endangered under the Endangered Species Act of 1973, as amended (Act). Slender rush-pea and South Texas ambrosia are currently found in remnant patches of shortgrass prairie within the Texas Coastal Bend in Nueces and Kleberg Counties, Texas. The draft recovery plan includes specific recovery objectives and criteria that, when achieved, will enable us to remove both species from the list of endangered and threatened plants. We request review and comment on this plan from local, State, and Federal agencies; tribes; and the public. We will also accept any new information on the status of the slender rush-pea and South Texas ambrosia throughout their ranges to assist in finalizing the recovery plan.

DATES: To ensure consideration, we must receive written comments on or before July 31, 2017. However, we will accept information about any species at any time.

ADDRESSES: If you wish to review the draft recovery plan, you may obtain a copy by any one of the following methods:

Internet: Download the file at www.fws.gov/southwest/es/ElectronicLibrary_Main.cfm.

U.S. mail: Send a request to U.S. Fish and Wildlife Service, 17629 El Camino Real Suite 211, Houston, TX 77058; or

Telephone: (281) 286-8282.

If you wish to comment on the draft recovery plan, you may submit your comments in writing by any one of the following methods:

• U.S. mail: Project Leader, at the above address;

• Hand-delivery: Texas Coastal Ecological Services Office, at the above address;

• Fax: (281) 488-5882; or

• Email: amber_miller@fws.gov.

For additional information about submitting comments, see Request for Public Comments, below.

FOR FURTHER INFORMATION CONTACT: Amber Miller, Fish and Wildlife Biologist, at the above address and phone number, or by email at amber_miller@fws.gov.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species. The recovery plan discussed in this notice is designed to recover (delist) two endangered plants: The slender rush-pea (Hoffmannseggia tenella) and the South Texas ambrosia (Ambrosia cheiranthifolia). The Service approved a recovery plan for slender rush-pea in 1988 (Service 1988) but has not previously published a recovery plan for South Texas ambrosia. Therefore, this plan will serve as an update for the 1988 recovery plan for the slender rush-pea and the first recovery plan for the South Texas ambrosia. This recovery plan uses an ecosystem-based approach because both species currently inhabit patches of shortgrass prairie and primary threats stem from the present destruction, modification, and curtailment of habitat or range.

Summary of Habitat

Texas Coastal Bend Shortgrass Prairie Ecosystem

South Texas ambrosia and slender rush-pea are both perennial herbaceous plant species found in historically fire-dependent prairie habitat in South Texas. Both species are geographically restricted to open grasslands where they occur in Nueces and Kleberg Counties, Texas. Populations of both species grow within the fine, calcareous clays associated with Pleistocene deltas. Primary threats stem from the present or threatened destruction, modification, and curtailment of habitat or range. Specifically, habitat loss results from conversion of native prairie to row crops, improved pastures, residential development, and commercial development. Ongoing and significant habitat degradation has resulted in the encroachment of nonnative, invasive pasture grasses; some localized disturbance from management techniques (mowing); and minimal damage from herbicide drift incidents onto highway right-of-ways (ROWs). Drought conditions associated with climate change may exacerbate these impacts.

Species History

Slender rush-pea

The slender rush-pea was federally listed as endangered throughout its range on November 1, 1985 (50 FR 45614). Critical habitat was not designated at the time of listing due to a potential increase in the vulnerability of collection and vandalism pressures. With a Recovery Priority Number of 2, the Service recommended high-priority activities to evaluate the best management practices at existing sites and to determine the best methods of controlling nonnative, invasive plants (i.e., introduced grasses) (USFWS 2010).

Slender rush-pea is an herbaceous perennial plant, first collected in 1922 by L.J. Bottimer, but described as a valid taxon by F.E. Clements in 1931. Slender rush-pea has a long, woody taproot, capable of forming colonies (Poole 1988, p. 2), but often the plant will grow in clusters. A single plant has spreading stems and alternate bipinnately (divided into smaller leaflets) compound leaves, ranging from 5-12 centimeters (cm) (2-4.7 inches (in)) (Poole et al. 2007, p. 266). There are five small, yellow-pink to reddish orange petals per flower, which bloom in the spring and summer months from April to November (Poole et al. 2007, p. 266) but may flower as late as December (Cobb 2013, pers. comm.). Slender rush-pea flowering and fruiting are linked to the bimodal rainfall episodes occurring in South Texas. Effective pollinators of slender rush-pea have not been observed in the field or in a greenhouse setting. Evidence suggests that slender rush-pea can self-fertilize. Abundant fruits and viable seed are produced in the wild and in propagated populations at the San Antonio Botanical Gardens, Bexar County, Texas, and the Kika de la Garza Plant Materials Center, Kleberg County, Texas. The species has been introduced at one site at the North American Butterfly Association's National Butterfly Center, Hidalgo County, Texas.

There are eight extant populations of slender rush-pea, all occurring on native remnants of shortgrass prairie habitat along drainage areas near creeks and streams. Victoria-associated soils that are loam, fine sandy loam, or sand clay loam support buffalograss-dominated vegetation (USFWS 2012, p. 5) at the known population sites. Extant populations of slender rush-pea include those found on unplowed and undisturbed remnant stands of shortgrass prairie, with known sites found within railroad and highway ROWs, cemeteries, mowed park fields, and erosional areas along creek systems. The extant sites include: Two sites on State land (Petronila Creek and U.S. Highway 77 ROW); two sites on city or county-owned lands (Bishop City Park and Sablatura County Park); and four privately owned sites, one at the St. James Cemetery in Bishop, a private residence near Bishop, a formerly leased habitat on the National Guard training area known as the King Ranch Training Area, and an introduced site at the North American Butterfly Association—National Butterfly Center. There are no verified occurrences of slender rush-pea in Mexico.

South Texas ambrosia

The South Texas ambrosia was federally listed as endangered throughout its range on August 24, 1994 (59 FR 43648). Critical habitat was not designated at the time of listing due to a potential increase in the vulnerability of collection and vandalism pressures. With a Recovery Priority Number of 8, the Service recommended high-priority activities to evaluate the best management practices at existing sites and to determine the best methods of controlling nonnative, invasive plants (i.e., introduced grasses) (USFWS 2010).

South Texas ambrosia is an herbaceous, rhizomatous perennial that stands erect at approximately 10 cm (3.9 in) to 60 cm (23.6 in) tall. Leaves are opposite below, alternate above, sessile, oblanceolate (widest at leaf tip and tapering to the base) to oblong-lanceolate, and up to 4 cm long (Poole et al. 2007, p. 76). Flowers are dioecious, where male and female flowers occur on different plants. Flower heads are raceme-like (unbranched, indeterminate type of inflorescence bearing flowers with pedicels (short floral stalks) along its axis) terminal inflorescences (complete flower head of a plant including stems, stalks, bracts, and flowers) with yellowish florets. South Texas ambrosia is distinguished from a similar-looking species, the false ragweed (Parthenium confertum), by its distinctive ashy-blue-gray color (Maher 2012, pers. comm.). Even given the distinctive color, South Texas ambrosia can be difficult to locate because taller native and introduced grasses easily obscure this species (Turner 1983, p. 4). Flowering occurs in late summer or fall depending on rainfall, and lasts until lack of water or cold temperature curtails growth. The pollination mechanisms of South Texas ambrosia remain largely unknown, although at one site stems produced a terminal inflorescence of staminate (male) heads that released abundant wind-dispersed pollen. The species responds well to propagation and reintroduction efforts. Root cuttings were used as the source for a pilot reintroduction and research plot at Nueces County Park. This reintroduction project showed that watering seedlings is essential to sustaining plants and that removal and maintenance of nonnative grasses is important.

More often than not, South Texas ambrosia is seen reproducing vegetatively by underground stem (rhizomatous) regrowth in the upper portion of the soil. As a result, a single individual plant may be represented by several-to-hundreds of stems, depending on the age of the plant (Turner 1983, p. 4). Current and ongoing reproductive studies suggest that this might be the case for a population found on the Naval Air Station Kingsville, Kleberg County, Texas, that had little genetic variation among other South Texas ambrosia samples collected and genetic markers; this determination implies that patches of plants on this site are likely part of one larger population, or a metapopulation.

There are seven extant, or presumed extant, South Texas ambrosia populations from north-central Kleberg County through central Nueces County. These populations occupy habitats consisting of open prairies, savannas, and grassland habitats scattered with mesquite. These populations are known to occur on soils derived primarily from the Beaumont clay series, ranging from heavy clays to lighter textured sandy loams typical of the Texas Coastal Plain (Turner 1983, p. 6; Poole et al. 2007, pp. 76-77). Plant associates are composed of native prairie species and can include honey mesquite (Prosopis glandulosa), huisache (Acacia), huisachillo (Acacia schaffneri), brasil (Condalia hookeri), granjeno (Celtis llida), and lotebush (Ziziphus obtusifolia) (USFWS 1994, in USFWS 2010, p. 18). Slender rush-pea co-occurs at three sites with South Texas ambrosia (Poole et al. 2007, pp. 76-77), but it is not a dominant species.

South Texas ambrosia is typically found on unplowed but managed remnant stands of shortgrass prairie, with known sites found within railroad and highway ROWs, cemeteries, mowed park fields, and erosional areas along creek systems. The extant South Texas ambrosia sites occur on State lands, on both the north and southbound ROWs of U.S. Highway 77; Federal land at the Naval Air Station Kingsville; two sites on city or county-owned lands (Bishop City Park and the Nueces County Park in Robstown); two privately owned sites, one at the St. James Cemetery in Bishop and a small group of plants on a lot in Kingsville (General Cavazos Boulevard); and a formerly leased habitat on the National Guard training area known as the King Ranch Training Area.

Although all known extant populations of South Texas ambrosia are concentrated in the northern part of the species' range, historic records show that the range extended from Nueces County, Texas, south to San Fernando, Mexico. However, numerous South Texas ambrosia occurrences are now considered historic and have not been re-located in more than 20 years or lack a confirmation of identification (or a voucher).

Recovery Strategy

The strategy to recover South Texas ambrosia and slender rush-pea by restoring and maintaining their shortgrass prairie habitat and its unique native flora includes the long-term protection, management, monitoring, and creation of shortgrass prairie habitat. Areas of sufficient size, number, composition (i.e., quality of habitat), and juxtaposition will support the continued existence of both species in the wild.

Recovery Plan Goals

The objective of an agency recovery plan is to provide a framework for the recovery of a species so that protection under the Act is no longer necessary. A recovery plan includes scientific information about the species and provides criteria and actions necessary for us to be able to reclassify the species to threatened status or remove it from the lists of endangered and threatened wildlife and plants. Recovery plans help guide our recovery efforts by describing actions we consider necessary for the species' and their habitats' conservation, and by estimating time and costs for implementing needed recovery measures. A primary objective of this plan is to ensure that there are shortgrass prairie areas of sufficient size, number (20 populations of slender rush-pea and 15 populations of South Texas ambrosia), composition, and juxtaposition, determined by the most current biological information known for the species to support the continued existence of their populations, that are able to persist and thrive in the wild. To achieve the plan's recovery goals and objectives, this draft recovery plan identifies the following action:

• Minimize further loss or fragmentation of native shortgrass prairie habitat within Nueces and Kleberg Counties, such that there is sufficient habitat to support slender rush-pea and South Texas ambrosia at levels that meet recovery goals.

• Actively manage shortgrass prairie conditions at all extant population (or subpopulation) sites of slender rush-pea and South Texas ambrosia to sustain both species at Minimum Viable Population levels or higher.

• Develop reintroduction sites within the geographic range of slender rush-pea and South Texas ambrosia to help increase the number of protected populations.

• Determine the extent and prevent depletion of rush-pea and ambrosia seed banks.

• Promote landowner relations and habitat management throughout the occupied and historical ranges of slender rush-pea and South Texas ambrosia in the United States.

• Determine the genetic diversity within and among populations of rush-pea and ambrosia, and prevent its loss.

• Determine optimal habitat requirements for slender rush-pea and South Texas ambrosia.

• Determine and implement best management practices where possible and monitor the response of slender rush-pea and South Texas ambrosia populations to these practices.

• Monitor long-term viability of all populations of slender rush-pea and South Texas ambrosia.

• Increase knowledge of slender rush-pea and South Texas ambrosia abundance, distribution, and ecology.

• Acquire long-term conservation easements where feasible, or conservation agreements, for occupied sites of slender rush-pea and South Texas ambrosia within each watershed from which the species are known.

The draft recovery plan contains recovery criteria based on maintaining and increasing population numbers and habitat quality and quantity and mitigating significant threats to slender rush-pea and South Texas ambrosia. The draft recovery plan focuses on protecting populations, managing threats, maintaining and creating appropriate habitat, monitoring progress, and building partnerships to facilitate recovery. When the recovery of the slender rush-pea and/or South Texas ambrosia approaches these criteria, we will review the species' status and consider downlisting on, and, ultimately, removal from the list of federally endangered and threatened plants.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species, ongoing beneficial management efforts, and the costs associated with implementing the recommended recovery actions.

Before we approve our final recovery plan, we will consider all comments we receive by the date specified in DATES, above. Methods of submitting comments are described in ADDRESSES, above.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the U.S. Fish and Wildlife Service, Branch of Recovery (see FOR FURTHER INFORMATION CONTACT).

Authority

We developed our draft recovery plan and publish this notice under the authority of section 4(f) of the Endangered Species Act of 1973, as amended (16 U.S.C. 1531 et seq.).

Dated: January 17, 2017.
Benjamin N. Tuggle,
Regional Director, Southwest Region, U.S. Fish and Wildlife Service.

[FR Doc. 2017-11305 Filed 5-31-17; 8:45 am]

BILLING CODE 4333-15-P